DEPARTMENT OF TRANSPORTATION

Federal Aviation Administration

14 CFR Part 39

[Docket No. 2002-NE-34-AD; Amendment 39-13017; AD 2003-02-01]

RIN 2120-AA64

Airworthiness Directives; Honeywell International, Inc., (formerly AlliedSignal, Inc. and Textron Lycoming) ALF502L-2, ALF502L-2C, ALF502R-3 and ALF502R-3A Series Turbofan Engines

AGENCY: Federal Aviation Administration, DOT.

ACTION: Final rule; request for comments.

SUMMARY: This amendment adopts a new airworthiness directive (AD) that is applicable to Honeywell International, Inc., (formerly AlliedSignal, Inc. and Textron Lycoming) ALF502L-2, ALF502L-2C, ALF502R-3 and ALF502R-3A series turbofan engines. This action requires inspection of the flow divider primary, secondary, and drain tube assemblies for security and proper clamping. This amendment is prompted by a fire in the engine nacelle of an ALF502L-2C powered airplane caused by fracture of the flow divider left primary fuel tube, due to high-cycle fatigue resulting from a missing support clamp. The actions specified in this AD are intended to prevent fire in the engine nacelle, in-flight shutdown, and possible damage to the engine.

DATES: Effective January 30, 2003. The incorporation by reference of certain publications listed in the rule is approved by the Director of the Federal Register as of January 30, 2003.

Comments for inclusion in the Rules Docket must be received on or before March 17, 2003.

ADDRESSES: Submit comments in triplicate to the Federal Aviation Administration (FAA), New England Region, Office of the Regional Counsel, Attention: Rules Docket No. 2002-NE-34-AD, 12 New England Executive Park, Burlington, MA 01803-5299. Comments may be inspected at this location, by appointment, between 8:00 a.m. and 4:30 p.m., Monday through Friday, except Federal holidays. Comments may also be sent via the Internet using the following address: “9-ane-adcomment@faa.gov”. Comments sent via the Internet must contain the docket number in the subject line.

The service information referenced in this AD may be obtained from Honeywell International, Inc. (formerly AlliedSignal, Inc. and Textron Lycoming), Attn: Data Distribution, M/S 64-3/2101-201, PO Box 29003, Phoenix, AZ 85038-9003, telephone: (602) 365-2493; fax: (602) 365-5577. This information may be examined, by appointment, at the FAA, New England Region, Office of the Regional Counsel, 12 New England Executive Park, Burlington, MA; or at the Office of the Federal Register, 800 North Capitol Street, NW., suite 700, Washington, DC.

FOR FURTHER INFORMATION CONTACT: Robert Baitoo, Aerospace Engineer, Los Angeles Aircraft Certification Office (LAACO), FAA, Transport Airplane Directorate, 3960 Paramount Blvd., Lakewood, CA 90712-4137; telephone (562) 627-5245; fax (562) 627-5210.

SUPPLEMENTARY INFORMATION: The FAA has been informed that a Bombardier CL-600 airplane powered by ALF502L-2C engines had a fire in the nacelle of the number one engine, resulting from fracturing of the flow divider left primary fuel tube. The fracture was due to high-cycle fatigue caused by a missing support clamp. This action mandates inspection of the flow divider primary, secondary, and drain tube assemblies for security and proper clamping. The actions specified in this AD are intended to prevent fire in the engine nacelle. This condition, if not corrected, could result in an in-flight shutdown and possible damage to the engine.

Manufacturer's Service Information

The FAA has reviewed and approved the technical contents of Honeywell Alert Service Bulletin (ASB) ALF/LF A73-1013, dated October 18, 2002, that describes procedures for inspection of the flow divider primary, secondary, and drain tube assemblies for security and proper clamping.

Differences Between This AD and the Manufacturer's Service Information

Although Honeywell ASB ALF/LF A73-1013 requires compliance within 75 hours after receipt of the service bulletin, this AD requires compliance within 100 flight hours after the effective date of this AD, allowing operators more time to schedule and perform inspections.

FAA's Determination of an Unsafe Condition and Required Actions

Since an unsafe condition has been identified that is likely to exist or develop on other Honeywell International, Inc., (formerly AlliedSignal, Inc. and Textron Lycoming) ALF502L-2, ALF502L-2C, ALF502R-3 and ALF502R-3A series turbofan engines, this AD is being issued to prevent fire in the engine nacelle, in-flight-shutdown, and possible damage to the engine. This AD requires inspection of the flow divider primary, secondary and drain tube assemblies for security and proper clamping. The actions are required to be done in accordance with the service bulletin described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-34-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-02-01 Honeywell International, Inc.: Amendment 39-13017. Docket No. 2002-NE-34-AD.

Applicability

This airworthiness directive (AD) is applicable to Honeywell International, Inc., (formerly AlliedSignal, Inc. and Textron Lycoming) ALF502L-2, ALF502L-2C, ALF502R-3 and ALF502R-3A series turbofan engines with tube assemblies, part numbers 2-193-340-02, 2-173-600-03, 2-173-110-02, 2-173-120-03, and 2-193-350-02 installed. These engines are installed on, but not limited to Bombardier CL-600-1A11 and BAE Systems BAe146-100A, -200A and -300A series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required as indicated, unless already done. To prevent fire in the engine nacelle, in-flight shutdown, and possible damage to the engine, do the following:

One-time Inspection of Flow Divider Tube Assemblies

(a) Within 100 flight hours after the effective date of this AD, inspect the flow divider primary, secondary, and drain tubes for proper clamp installation, in accordance with Paragraph 2.A.(1) and 2.A.(2) of the Accomplishment Instructions of Honeywell International, Inc. Alert Service Bulletin ALF/LF A73-1013, dated October 18, 2002.

Alternative Methods of Compliance

(b) An alternative method of compliance or adjustment of the compliance time that provides an acceptable level of safety may be used if approved by the Manager, Los Angeles Aircraft Certification Office (LAACO). Operators must submit their requests through an appropriate FAA Principal Maintenance Inspector, who may add comments and then send it to the LAACO.

Note 2: Information concerning the existence of approved alternative methods of compliance with this airworthiness directive, if any, may be obtained from the LAACO.

Special Flight Permits

(c) Special flight permits may be issued in accordance with §§ 21.197 and 21.199 of the Federal Aviation Regulations (14 CFR 21.197 and 21.199) to operate the airplane to a location where the requirements of this AD can be done.

Documents That Have Been Incorporated by Reference

(d) The inspection must be done in accordance with Honeywell Alert Service Bulletin ALF/LF A73-1013, dated October 18, 2002.

This incorporation by reference was approved by the Director of the Federal Register in accordance with 5 U.S.C. 552(a) and 1 CFR part 51. Copies may be obtained from Honeywell International, Inc. (formerly AlliedSignal, Inc. and Textron Lycoming), Attn: Data Distribution, M/S 64-3/2101-201, PO Box 29003, Phoenix, AZ 85038-9003, telephone: (602) 365-2493; fax: (602) 365-5577. Copies may be inspected at the FAA, New England Region, Office of the Regional Counsel, 12 New England Executive Park, Burlington, MA; or at the Office of the Federal Register, 800 North Capitol Street, NW., suite 700, Washington, DC.

Effective Date

(e) This amendment becomes effective on January 30, 2003.

Issued in Burlington, Massachusetts, on January 6, 2003.
Mark C. Fulmer,
Acting Manager, Engine and Propeller Directorate, Aircraft Certification Service.

[FR Doc. 03-643 Filed 1-14-03; 8:45 am]

BILLING CODE 4910-13-P